FEDERAL COMMUNICATIONS COMMISSION

Public Information Collection Approved by Office of Management and Budget

AGENCY: Federal Communications Commission.

ACTION: Notice.

SUMMARY: The Federal Communications Commission (FCC) has received Office of Management and Budget (OMB) approval for the following public information collection pursuant to the Paperwork Reduction Act of 1995, Public Law 104-13.

DATES: Written comments should be submitted on or before November 3, 2003. If you anticipate that you will be submitting comments, but find it difficult to do so within the period of time allowed by this notice, you should advise the contacts listed below as soon as possible.

ADDRESSES: Kim A. Johnson, Office of Management and Budget, Room 10236 NEOB, Washington, DC 20503, (202) 395-7232 or Kim_A._Johnson@omb.eop.gov; or Les Smith, Federal Communications Commission, 445 12th Street, Room 1-A804, Washington DC, 20554, (202) 418-0217 or Leslie.Smith@fcc.gov.

Paperwork Reduction Act

OMB Control No.: 3060-1033.

Expiration Date:

Title: Multi-channel Video Program Distributor EEO Program Annual Report, FCC Form 396-C.

Form No.: 396-C.

Respondents: 10 minutes to 2.5 hours.

Number of Respondents: 2,200.

Total Annual Burden: 3188 hours.

Total Annual Cost: None.

Description: FCC Form 396-C collects information on the EEO program of multi-channel video program distributors during the last year prior to filing once every five years, each employment unit is also required to submit as an attachment a copy of the units most recent EEO public file report, and is also required to answer additional questions about its hiring program on a Supplemental Investigation Sheet.

Federal Communications Commission.
Marlene H. Dortch,
Secretary.

[FR Doc. 03-24935 Filed 10-1-03; 8:45 am]

BILLING CODE 6712-01-P